DEPARTMENT OF HOMELAND SECURITY

6 CFR Part 5

[Docket No. DHS-2006-0018]

Privacy Act of 1974: Implementation of Exemptions

AGENCY: Privacy Office, Office of the Secretary, Department of Homeland Security.

ACTION: Notice of proposed rulemaking.

SUMMARY: The Department of Homeland Security has given notice of a new Department-wide system of records pursuant to the Privacy Act of 1974 for Department of Homeland Security General Training Records. In this proposed rulemaking, the Department proposes to exempt portions of this system of records from one or more provisions of the Privacy Act in order to preserve the objectivity and fairness of testing and examination material.

DATES: Comments must be received on or before June 7, 2006.

ADDRESSES: You may submit comments, identified by docket number DHS-2006-0018, by one of the following methods:

Federal eRulemaking Portal: http://www.regulations.gov. Follow the instructions for submitting comments.

Fax: 571-227-4171.

Mail: Acting Chief Privacy Officer, Department of Homeland Security, 601 S. 12th Street, Arlington, VA 22202-4220.

Instructions: All submissions received must include the agency name and docket number for this notice. All comments received will be posted without change to http://www.regulations.gov, including any personal information provided.

Docket: For access to the docket to read background documents or comments received, go to http://www.regulations.gov.

FOR FURTHER INFORMATION CONTACT: Maureen Cooney, Acting Chief Privacy Officer, Department of Homeland Security, 601 South 12th Street, Arlington, VA 22202-4220 by telephone (571) 227-3813 or facsimile (571) 227-4171.

SUPPLEMENTARY INFORMATION:

Background

The Privacy Act requires each agency to publish in the Federal Register a description of the type and character of each system of records that the agency maintains, and the routine uses that are contained in each system, in order to make agency record keeping practices transparent, to notify individuals regarding the uses to which personally identifiable information is put, and to assist individuals in finding such files within the agency.

Elsewhere in the Federal Register, the Department of Homeland Security has published a new system of records to cover all of its general training records. This record system will allow all component parts of DHS to maintain training records under one centralized system. The system will consist of both electronic and paper records and will be used by DHS and its components and offices to maintain records about individual training, including enrollment and participation information, information pertaining to class schedules, programs, and instructors, training trends and needs, tests and examination materials, and assessments of training efficacy. The data will be collected by employee name or other unique identifier. The collection and maintenance of this information will assist DHS in meeting its obligation to train its personnel, contractors and other individuals in order to ensure that the agency mission can be successfully accomplished.

The Privacy Act allows government agencies to exempt certain records from its access and amendment and certain other provisions. If an agency claims an exemption, however, it must issue a Notice of Proposed Rulemaking to make clear to the public the reasons why a particular exemption is claimed.

DHS is claiming an exemption for certain records in this new record system pursuant to 5 U.S.C. 552a(k)(6). Since its training records will include testing and examination materials, DHS is claiming an exemption for these records in order to preserve the objectivity and fairness of the testing and examination process.

List of Subjects in 6 CFR Part 5

Privacy; Freedom of information.

For the reasons stated in the preamble, DHS proposes to amend chapter I of Title 6, Code of Federal Regulations, as follows:

PART 5—DISCLOSURE OF RECORDS AND INFORMATION

1. The authority citation for part 5 continues to read as follows:

Authority: Pub. L. 107-296, 116 Stat. 2135, 6 U.S.C. 101 et seq.; 5 U.S.C. 301. Subpart A also issued under 5 U.S.C. 552. Subpart B also issued under 5 U.S.C. 552a.

2. At the end of appendix C to part 5, Exemption of Record Systems Under the Privacy Act, add the following new paragraph “5”:

* * * * *

5. The Department of Homeland Security General Training Records system of records consists of electronic and paper records and will be used by DHS and its components and offices to maintain records about individual training, including enrollment and participation information, information pertaining to class schedules, programs, and instructors, training trends and needs, testing and examination materials, and assessments of training efficacy. The data will be collected by employee name or other unique identifier. The collection and maintenance of this information will assist DHS in meeting its obligation to train its personnel and contractors in order to ensure that the agency mission can be successfully accomplished.

Pursuant to exemptions 5 U.S.C. 552a(k)(6) of the Privacy Act, portions of this system are exempt from 5 U.S.C. 552a(d) to the extent that records in this system relate to testing or examination materials used solely to determine individual qualifications for appointment in the Federal service. Access to or amendment of this information by the data subject would compromise the objectivity and fairness of the testing and examination process.

Dated: April 28, 2006.
Maureen Cooney,
Acting Chief Privacy Officer.

[FR Doc. E6-6810 Filed 5-4-06; 8:45 am]

BILLING CODE 4410-10-P